DEPARTMENT OF THE INTERIOR

Bureau of Land Management

[LLNV952000 L14400000.BJ0000.LXSSF2210000.241A; MO #4500130147]

Filing of Plats of Survey; NV

AGENCY: Bureau of Land Management, Interior.

ACTION: Notice.

SUMMARY: The purpose of this notice is to inform the public and interested State and local government officials of the filing of Plats of Survey in Nevada.

DATES: Unless otherwise stated filing is applicable at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Supplemental Plat of the following described lands was officially filed at the Bureau of Land Management (BLM) Nevada State Office, Reno, Nevada on August 10, 2018:

The supplemental plat, in one sheet, showing new lottings in the SW¼SW¼ of section 8, Township 33 North, Range 70 East, Mount Diablo Meridian, Nevada, under Group No. 987, was accepted August 9, 2018. This supplemental plat was prepared to meet certain administrative needs of the Bureau of Land Management.

The supplemental plat listed above is now the basic records for describing lands for all authorized purposes. These records have been placed in the open files at the BLM Nevada State Office and are available to the public as a matter of information. Copies of the surveys and related field notes may be furnished to the public upon payment of the appropriate fees.

Dated: November 20, 2018.
Michael O. Harmening,
Chief Cadastral Surveyor for Nevada.

[FR Doc. 2018-26248 Filed 12-3-18; 8:45 am]

BILLING CODE 4310-HC-P